POSTAL SERVICE

Privacy Act of 1974; System of Records

AGENCY: Postal Service.

ACTION: Notice of a modified system of records.

SUMMARY: The United States Postal Service® (Postal Service) is proposing to modify a General Privacy Act System of Records (SOR) to support a program that provides employees with USPS approved brand content to share to their personal social media accounts. Sharing is made easy for participating employees through an intuitive website and mobile application interfaced as an internal social media platform tool.

DATES: These revisions will become effective without further notice on December 23, 2021, unless, in response to comments received on or before that date result in a contrary determination.

ADDRESSES: Comments may be submitted via email to the Privacy and Records Management Office, United States Postal Service Headquarters (privacy@usps.gov). To facilitate public inspection, arrangements to view copies of any written comments received will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service is proposing revisions to an existing system of records (SOR) to support an employee advocacy program which utilizes an all-in-one social media platform. The voluntary program will provide USPS approved content to current participating employees across the country to share on their personal social media platforms.

I. Background

The Postal Service is sponsoring a new voluntary program that provides USPS approved content to current participating employees across the country to share on their personal social media platforms. Employee advocacy program leverages the power of employees to promote the value of the USPS brand through the eyes of passionate employees vested in the success of the organization. The program will share content on stamps, licensing partnerships, organizational facts and history, business-focused content, and more. The program is completely voluntary as it is preferred that participants use their personal social accounts. Many employees already share information about USPS that they find on their own accord, so the program allows for USPS to provide consistent and accurate information being shared with the public. While the program does rely on two-way communication, customer service is not the focus, so program managers are instructing participants to refer any service issues and inquiries to the USPS Customer Care Center for customer service.

II. Rationale for Changes to USPS Privacy Act Systems of Records

The Postal Service is proposing to modify USPS SOR 100.450 User Profile Support Records Related to Digital Services in support of a program which provides USPS approved content to current participating employees across the country to share on their personal social media platforms.

Program objectives:

—Increase brand presence and improve brand reputation on social media by providing quality content to employees who love their jobs and want to promote the brand.

—Amplify earned reach at minimal costs by repurposing content on USPS corporate pages and creating content with existing agency contracts.

—Leverage through an intuitive website and mobile application for a unified marketing strategy for prominent USPS campaigns, including Informed Delivery®, peak season, and more.

—Improve marketing and social content through the feedback participants provide from two-way communication with their social networks.

III. Description of the Modified System of Records

Pursuant to 5 U.S.C. 552a(e)(11), interested persons are invited to submit written data, views, or arguments on this proposal. A report of the proposed revisions to this SOR has been sent to Congress and to the Office of Management and Budget for their evaluations. The Postal Service does not expect this modified system of records to have any adverse effect on individual privacy rights. Accordingly, for the reasons stated above, the Postal Service proposes revisions to this system of records as follows:

SYSTEM NAME AND NUMBER:

USPS 100.450; User Profile Support Records Related to Employee Programs.

SECURITY CLASSIFICATION:

None.

SYSTEM LOCATION:

Contractor sites.

SYSTEM MANAGER(S) AND ADDRESS:

Chief Information Officer and Executive Vice President, United States Postal Service, 475 L'Enfant Plaza SW, Washington, DC 20260.

Vice President Corporate Communications, United States Postal Service, 475 L'Enfant Plaza SW, Washington, DC 20260.

AUTHORITY FOR MAINTENANCE OF THE SYSTEM:

39 U.S.C. 401, 403, 404; 1003, 1004, and 1201-1209.

PURPOSE(S):

1. To provide administrative support to assist end users with technical questions and issues.

2. To provide account management assistance.

3. To provide account security and to deter and detect fraud.

4. To allow USPS employees to share pre-approved USPS brand messages or content on social media via personal social media accounts.

CATEGORIES OF INDIVIDUALS COVERED BY THE SYSTEM:

Current USPS employees that voluntarily opt-in to participate in employee programs.

CATEGORIES OF RECORDS IN THE SYSTEM:

1. User profile information: Name, date of birth, email, gender, phone, internally assigned identifier, username, physical address, employee identification number (EIN), contact information, customer ID(s), text message number, date of account creation, method of referral to website, date of last logon, and authentication method preferences.

2. User preferences for communications: Frequency and channel opt in/opt out and preferred means of contact for service alerts and notifications, and language.

3. Online user information: Internet Protocol (IP) address, domain name, operating system versions, browser version, date and time of first and last connection, and geographic location.

4. Identity verification information: Username, user ID, email address, text message number, and results of identity proofing validation.

5. Employee social media program: Work contact information, social media user handle, photograph, feedback received regarding content, and aggregate feedback metrics not associated with personally identifiable information.

RECORD SOURCE CATEGORIES:

Individual end user.

ROUTINE USES OF RECORDS MAINTAINED IN THE SYSTEM, INCLUDING CATEGORIES OF USERS AND THE PURPOSES OF SUCH USES:

Standard routine uses 1-9 apply.

STORING, RETRIEVING, ACCESSING, RETAINING, AND DISPOSING OF RECORDS IN THE SYSTEM:

POLICIES AND PRACTICES FOR STORAGE OF RECORDS:

Automated database, computer storage media, and digital files.

POLICIES AND PRACTICES FOR RETRIEVAL OF RECORDS:

For system administrators and/or customer service representatives, by internally assigned identifier, or end user account details such as name, phone number, etc. to assist end users with access or use of USPS social media access and to understand and fulfill end user needs.

POLICIES AND PRACTICES FOR RETENTION AND DISPOSAL OF RECORDS:

1. Records stored in digital service are retained until (1) the end user cancels the account, (2) six years after the end user last accesses their account, (3) until the relationship ends, or (4) after reasonable notice has been provided to the end user to export their account information in the event the agreement is terminated.

2. Records existing on computer storage media are destroyed according to the applicable USPS media sanitization practice.

3. Records are retained as long as the employee is active in the program data is maintained. When user is in-active, user data is marked as inactive, but data is retained.

4. Records for social media historical data, posts, feedback received regarding content, and aggregate feedback metrics not associated with personally identifiable information are maintained indefinitely.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections. Computers are protected by mechanical locks, card key systems, or other physical access control methods.

The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedures and Record Access Procedures.

NOTIFICATION PROCEDURES:

Individuals wanting to know if information about them is maintained in this system must address inquiries in writing to the system manager. Inquiries must include full name, date of birth, physical address, email address, username, and other identifying information, if requested.

EXEMPTIONS PROMULGATED FOR THE SYSTEM:

None.

HISTORY:

August 14, 2015, 80 FR 48935.

* * * * *

Ruth Stevenson,
Chief Counsel, Ethics & Legal Compliance.

[FR Doc. 2021-25498 Filed 11-22-21; 8:45 am]

BILLING CODE 7710-12-P